CIVIL RIGHTS COMMISSION

Sunshine Act Meeting

AGENCY: Commission on Civil Rights.

DATE AND TIME: Friday, October 11, 2002, 9:30 a.m.

PLACE: Hilton Jackson Hotel, 1001 East County Line Road, Jackson, MS 39211.

Status

Agenda

I. Approval of Agenda

II. Approval of Minutes of July 19, 2002 Meeting and September 13, 2002 “Meeting”

III. Announcements

IV. Staff Director's Report

V. FY-2004 Budget Estimate to OMB

VI. State Advisory Committee Appointments for Arkansas, Georgia, Illinois, New York, Oklahoma, Texas and Tennessee

VII. State Advisory Committee Report: Civil Rights Issues in West Virginia (West Virginia)

VIII. Presentations from central Regional SAC members representing Alabama, Arkansas, Louisiana, Mississippi and Nebraska on recent activities and other civil rights developments in their states.

IX. Future Agenda Items

CONTACT PERSON FOR FURTHER INFORMATION: Les Jin, Press and Communications, (202) 376-7700.

Debra A. Carr,
Deputy General Counsel.

[FR Doc. 02-25469 Filed 10-2-02; 2:16 pm]

BILLING CODE 6335-01-M